DEPARTMENT OF THE INTERIOR

National Park Service

[NPS-NERO-CAJO-18378; PPNCCHOHS0-PPMPSPD1Z.YM0000]

Request for Nominations for the Captain John Smith Chesapeake National Historic Trail Advisory Council

AGENCY: National Park Service, Interior.

ACTION: Request for nominations.

SUMMARY: The National Park Service, U.S. Department of the Interior, is seeking nominations for individuals to be considered for appointment to the Captain John Smith Chesapeake National Historic Trail Advisory Council (Council).

DATES: Written nominations must be received by August 13, 2015.

ADDRESSES: Send nominations to: Christine Lucero, Partnership Coordinator, Captain John Smith Chesapeake NHT, P.O. Box 374, Yorktown, VA 23690 or via email at christine_lucero@nps.gov.

FOR FURTHER INFORMATION CONTACT: Christine Lucero, Partnership Coordinator, Captain John Smith Chesapeake NHT, P.O. Box 374, Yorktown, VA 23690 or via email at christine_lucero@nps.gov.

SUPPLEMENTARY INFORMATION: The Council was established under the National Trails System Act (16 U.S.C. 1241 to 1251, as amended).

The purpose of the Council is to consult with the Secretary of the Interior on matters relating to the Captain John Smith Chesapeake National Historic Trail, including, but not limited to, the selection of rights-of-way, standards for the erection and maintenance of markers along the Trail, and interpretation and administration of the Trail.

The Council shall not exceed 35 members and will be appointed by the Secretary as follows:

a. The head of each Federal department or independent agency administering lands through which the trail route passes, or a designee;

b. A member to represent each State through which the trail passes, and such appointments will be made from recommendations of the Governors of such States; and

c. One or more members to represent private organizations, including corporate and individual landowners and land users, which, in the opinion of the Secretary, have an established and recognized interest in the trail. Such appointments will be made from recommendations of the heads of such organizations.

Members will be appointed by the Secretary of the Interior for a term of two years. Members of the Council receive no pay, allowances, or benefits by reason of their service on the Council. However, while away from their homes or regular places of business in the performance of services for the Council as approved by the Designated Federal Officer (DFO), members may be allowed travel expenses, including per diem in lieu of subsistence, in the same manner as persons employed intermittently in Government service are allowed such expenses under Section 5703 of Title 5 of the United State Code.

Some Council members may serve as Special Government Employees, which requires the completion of an annual financial disclosure report and annual ethics training.

Individuals who are federally registered lobbyists are ineligible to serve on all FACA and non-FACA boards, committees, or councils in an individual capacity. The term “individual capacity” refers to individuals who are appointed to exercise their own individual best judgment on behalf of the government, such as when they are designated Special Government Employees, rather than being appointed to represent a particular interest.

Meetings will take place at such times as designated by the DFO. Members are expected to make every effort to attend all meetings. Members may not appoint deputies or alternates.

Seeking Nominations for Membership

We are seeking nominations for Council members in all categories. The terms of the majority of the 26 members will expire on July 9, 2015. All those interested in membership, including current members whose terms are expiring, must follow the same nomination process.

Nominations should include a resume providing an adequate description of the nominee's qualifications, including information that would enable the Department of the Interior to make an informed decision regarding meeting the membership requirements of the Council, and to permit the Department to contact a potential member.

Dated: June 19, 2015.
Alma Ripps,
Chief, Office of Policy.

[FR Doc. 2015-17215 Filed 7-13-15; 8:45 am]

BILLING CODE 4310-EE-P